DEPARTMENT OF HEALTH AND HUMAN SERVICES

Centers for Disease Control and Prevention

[30Day-43-04]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: National Hospital Ambulatory Medical Care Survey (NHAMCS) 2005-2006 (OMB No. 0920-0278)—Revision—National Center for Health Statistics (NCHS), Centers for Disease Control and Prevention (CDC).

The National Hospital Ambulatory Medical Care Survey (NHAMCS) is managed by CDC, NCHS, Division of Health Care Statistics. This survey has been conducted annually since 1992. The purpose of NHAMCS is to meet the needs and demands for statistical information about the provision of ambulatory medical care services in the United States. Ambulatory services are rendered in a wide variety of settings, including physicians' offices and hospital outpatient and emergency departments. The targeted population for NHAMCS will consist of in-person visits made to outpatient departments and emergency departments that are non-Federal, short-stay hospitals (hospitals with an average length of stay of less than 30 days) or those whose specialty is general (medical or surgical) or children's general. NHAMCS was initiated to complement the National Ambulatory Medical Care Survey (NAMCS, OMB No. 0920-0234) which provides similar data concerning patient visits to physicians' offices.

NHAMCS provides a range of baseline data on the characteristics of the users and providers of ambulatory medical care. Data collected include patients' demographic characteristics and reason(s) for visit, and the physicians' diagnosis, diagnostic services, medications, and disposition. In addition to the annual statistics normally collected, a key focus of the 2005/06 survey will be on the prevention and treatment of selected chronic conditions. These data, together with trend data, may be used to monitor the effects of change in the health care system, for the planning of health services, improving medical education, and assessing the health status of the population.

Users of NHAMCS data include, but are not limited to, congressional offices, Federal agencies, state and local governments, schools of public health, researchers, administrators, and health planners. Data collection will continue through 2005 to 2006. The estimated annualized burden is 8,960 hours.

Respondents | Form name | Number of respondents | Number of responses per respondent | Average burden per respondent
Hospital Chief Medical Officer | Hospital Induction (NHAMCS-101) |  |  |
| Ineligible | 50 | 1 | 15/60
| Eligible | 440 | 1 | 1
Ancillary Service Executive | Ambulatory Unit Induction (ED) (NHAMCS-101/U) | 380 | 1 | 1
Ancillary Service Executive | Ambulatory Unit Induction (OPD) (NHAMCS-101/U) | 240 | 4 | 4
Registered Nurse/Medical Record Clerk | ED Patient Record Form | 830 | 100 | 5/60
Registered Nurse/Medical Record Clerk | OPD Patient Record Form | 240 |  |

Dated: April 16, 2004.
Bill J. Atkinson,
Acting Director, Management Analysis and Services Office, Centers for Disease Control and Prevention.

[FR Doc. 04-9231 Filed 4-22-04; 8:45 am]

BILLING CODE 4163-18-P